DEPARTMENT OF ENERGY

Federal Energy Regulatory Commission

[Docket No. CP23-519-000]

Rio Bravo Pipeline Company, LLC; Notice of Availability of the Environmental Assessment for the Proposed Rio Bravo Pipeline Route Amendment

The staff of the Federal Energy Regulatory Commission (FERC or Commission) has prepared an environmental assessment (EA) for the Rio Bravo Pipeline Route Amendment (Route Amendment), proposed by Rio Bravo Pipeline Company, LLC (RB Pipeline) in the above-referenced docket.¹ The EA assesses the potential environmental effects of the construction and operation of the Route Amendment in accordance with the requirements of the National Environmental Policy Act (NEPA). The FERC staff concludes that approval of the proposed Route Amendment, with appropriate mitigating measures, would not constitute a major Federal action significantly affecting the quality of the human environment.

¹ As authorized, the Rio Bravo Pipeline System consists of 135.7 miles of dual (parallel) pipelines; one 42 inches in diameter and the other 48 inches in diameter; one new compressor station; and associated meter stations and valves and related facilities. The Rio Bravo Pipeline Project was approved by the Commission on November 22, 2019, in Docket No. CP16-455-000, and amended (and approved by the Commission) on April 21, 2023, in Docket no. CP20-481-000.

The proposed Route Amendment includes the following four pipeline route adjustments, all within the State of Texas:

• adjust the certificated route between approximate milepost (MP) 69.8 to approximate MP 79.4 in Willacy County to conform to the U.S. Fish and Wildlife Service's Biological Opinion issued for the Rio Bravo Pipeline Project and to minimize impacts on potential ocelot habitat (the “U.S. Fish and Wildlife Service Route Adjustment”);

• adjust the certificated route between approximate MP 92.4 and MP 93.0 in Willacy County to accommodate requirements of the International Boundary and Water Commission and landowner requests (the “North Floodway Route Adjustment”);

• adjust the certificated route between approximate MP 99.7 and MP 100.5 in Willacy and Cameron Counties to accommodate a landowner request (the “Arroyo Colorado Route Adjustment”); and

• relocate a meter station and extend the approved Rio Bravo Pipeline route approximately 0.6 mile in Cameron County from the currently certificated terminus site to the meter station within the fenceline of the approved Rio Grande LNG Terminal site (the “Terminus Adjustment”).

The Commission mailed a copy of the Notice of Availability of the EA to Federal, State, and local government representatives and agencies; elected officials; environmental and public interest groups; Native American Tribes; potentially affected landowners and other interested individuals and groups; and newspapers and libraries in the Route Amendment area. The EA is only available in electronic format. It may be viewed and downloaded from the FERC's website (www.ferc.gov), on the natural gas environmental documents page (https://www.ferc.gov/industries-data/natural-gas/environment/environmental-documents). In addition, the EA may be accessed by using the eLibrary link on the FERC's website. Click on the eLibrary link (https://elibrary.ferc.gov/eLibrary/search), select “General Search” and enter the docket number in the “Docket Number” field, excluding the last three digits (i.e., CP23-519). Be sure you have selected an appropriate date range. For assistance, please contact FERC Online Support at FercOnlineSupport@ferc.gov or toll free at (866) 208-3676, or for TTY, contact (202) 502-8659.

The EA is not a decision document. It presents Commission staff's independent analysis of the environmental issues for the Commission to consider when addressing the merits of all issues in this proceeding. Any person wishing to comment on the EA may do so. Your comments should focus on the EA's disclosure and discussion of potential environmental effects, reasonable alternatives, and measures to avoid or lessen environmental impacts. The more specific your comments, the more useful they will be. To ensure that the Commission has the opportunity to consider your comments prior to making its decision on this Route Amendment, it is important that we receive your comments in Washington, DC on or before 5 p.m. eastern time on December 14, 2023.

For your convenience, there are three methods you can use to file your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can also file your comments electronically using the eFiling feature on the Commission's website (www.ferc.gov) under the link to FERC Online. With eFiling, you can provide comments in a variety of formats by attaching them as a file with your submission. New eFiling users must first create an account by clicking on “eRegister.” You must select the type of filing you are making. If you are filing a comment on a particular project, please select “Comment on a Filing”; or

(3) You can file a paper copy of your comments by mailing them to the Commission. Be sure to reference the Route Amendment docket number (CP23-519-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852.

Filing environmental comments will not give you intervenor status, but you do not need intervenor status to have your comments considered. Only intervenors have the right to seek rehearing or judicial review of the Commission's decision. At this point in this proceeding, the timeframe for filing timely intervention requests has expired. Any person seeking to become a party to the proceeding must file a motion to intervene out-of-time pursuant to Rule 214(b)(3) and (d) of the Commission's Rules of Practice and Procedures (18 CFR 385.214(b)(3) and (d)) and show good cause why the time limitation should be waived. Motions to intervene are more fully described at https://www.ferc.gov/how-intervene.

Additional information about the Route Amendment is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: November 14, 2023.
Kimberly D. Bose,
Secretary.

[FR Doc. 2023-25674 Filed 11-20-23; 8:45 am]

BILLING CODE 6717-01-P